SURFACE TRANSPORTATION BOARD

[Docket No. FD 36627]

TGS Cedar Port Railroad LLC—Operation Exemption—in Chambers County, Tex.

TGS Cedar Port Railroad LLC (TGSC), a noncarrier, has filed a verified notice of exemption pursuant to 49 CFR 1150.31 to operate on track extending approximately 1.28 miles from a connection with the Cedar Bayou Industrial Lead at milepost 5.22 in Chambers County, Tex. (a line owned by Union Pacific Railroad Company (UP) and operated over by UP and BNSF Railway Company (BNSF)) to milepost 6.5 (as measured from the southern end of the Cedar Bayou Industrial Lead) (the Line).

This transaction is related to a concurrently filed verified notice of exemption in Trans-Global Solutions, Inc.—Continuance in Control Exemption—TGS Cedar Port Railroad, Docket No. FD 36628, in which TGSI seeks to continue in control of TGSC upon TGSC's becoming a Class III rail carrier.

According to the verified notice, the Line is owned by TGSC's affiliate, TGS Cedar Port Partners LP (TGSLP), also a noncarrier, is currently operated as private industrial track by TGSC's parent company, Trans-Global Solutions, Inc. (TGSI), and connects to ancillary track within the TGS Cedar Port Industrial Park (the Park). TGSC states it has reached an agreement with TGSLP pursuant to which TGSC will acquire the right to conduct railroad common carrier service on the Line on or after the effective date of the exemption. TGSC also states that this service, including on the ancillary track within the Park, will constitute the entirety of TGSC's railroad operations, and as such, that the Board has jurisdiction over the proposed common carrier service under Effingham Railroad—Petition for Declaratory Order—Construction at Effingham, Ill., 2 S.T.B. 606, 608 (1997) and Effingham Railroad—Operation Exemption—Line Owned by Agracel, FD 33468 (STB served Sept. 24, 1997).

TGSC certifies that its projected annual revenue will exceed $5 million but that the proposed transaction will not result in TGSC becoming a Class I or Class II rail carrier. TSGC states advance notice under 49 CFR 1150.32(e) is not required because there are currently no common carrier operations on the Line. TGSC also states the proposed transaction will not contractually limit its ability to interchange traffic with any third-party connecting carrier.

The transaction may be consummated on or after August 6, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than July 29, 2022 (at least seven days before the exemption becomes effective).

All pleadings, referring to Docket No. FD 36627, must be filed with the Surface Transportation Board either via e-filing on the Board's website or in writing addressed to 395 E Street SW, Washington, DC 20423-0001. In addition, a copy of each pleading must be served on TGSC's representative, Robert A. Wimbish, Fletcher & Sippel LLC, 29 North Wacker Drive, Suite 800, Chicago, IL 60606-3208.

According to TGSC, this action is categorically excluded from environmental review under 49 CFR 1105.6(c) and from historic preservation reporting requirements under 49 CFR 1105.8(b).

Board decisions and notices are available at www.stb.gov.

Decided: July 18, 2022.
By the Board, Mai T. Dinh, Director, Office of Proceedings.
Aretha Laws-Byrum,
Clearance Clerk.

[FR Doc. 2022-15673 Filed 7-21-22; 8:45 am]

BILLING CODE 4915-01-P